DEPARTMENT OF COMMERCE

Foreign-Trade Zones Board

(Docket 2-2007)

Foreign-Trade Zone 181 - Akron/Canton, Ohio, Application for Reorganization

An application has been submitted to the Foreign-Trade Zones Board (the Board) by the Northeast Ohio Trade & Economic Consortium (NEOTEC), grantee of FTZ 181, requesting authority to reorganize Site 2 in Trumbull and Mahoning Counties, Ohio, within the Cleveland Customs port of entry. The application was submitted pursuant to the provisions of the Foreign-Trade Zones Act (19 U.S.C. 81a-81u), and the regulations of the Board (15 CFR Part 400). It was formally filed on January 22, 2007.

FTZ 181 was approved by the Board on December 23, 1991 (Board Order 546, 57 FR 41; 1/2/92). On March 13, 1998, the grant of authority was reissued to NEOTEC (Board Order 965, 63 FR 13837; 3/23/98). The zone was expanded in 1997 (Board Order 902, 62 FR 36044; 7/3/97), 1998 (Board Order 968, 63 FR 16962; 4/7/98), 1999 (Board Order 1053, 64 FR 51291; 9/22/99), 2002 (Board Order 1260, 67 FR 71933; 12/3/02), 2004 (Board Order 1334, 69 FR 30281; 5/27/04), and twice in 2006 (Board Orders 1479, 71 FR 59072; 10/6/06 and 1493, 71 FR 71507-71508; 12/11/06). FTZ 181 currently consists of nine sites in the northeast, Ohio area covering Summit, Trumbull, Mahoning, Columbiana, Stark, Richland, Ashtabula, Portage, Medina and Wayne Counties.

The applicant is now requesting authority to reorganize Site 2 by deleting 378 acres from the Youngstown-Warren Regional Airport in Trumbull County and adding 50 acres within the 106-acre Warren Commerce Park, located at 655 North River Road, NW, Warren, Trumbull County, and 200 acres within the 244-acre Allied Industrial Park, located at 2100 Poland Avenue, Youngstown, Mahoning County, Ohio.

Leedsworld, Inc, will be the anchor tenant for the Warren Commerce Park, which is owned by Mahoning Valley Economic Development Corporation and River Road Investments Inc. Allied Industrial Park, owned by Allied Consolidated Industries (ACI), will serve ACI's headquarters and seven of its umbrella companies.

No specific manufacturing requests are being made at this time. Such requests would be made to the Board on a case-by case basis.

In accordance with the Board's regulations, a member of the FTZ Staff has been designated examiner to investigate the application and report to the Board.

Public comment on the application is invited from interested parties. Submissions (original and 3 copies) shall be addressed to the Board's Executive Secretary at the address below. The closing period for their receipt is [60 days from date of publication]. Rebuttal comments in response to material submitted during the foregoing period may be submitted during the subsequent 15-day period (to [75 days from date of publication]).

A copy of the application and accompanying exhibits will be available for public inspection at each of the following locations:

U.S. Department of Commerce, Export Assistance Center, 600 Superior Avenue, East, Suite 700,Cleveland, Ohio, 44114-2>

Office of the Executive Secretary, Foreign-Trade Zones Board, U.S. Department of Commerce, Room 2814B, 1401 Constitution Avenue, NW, Washington, D.C., 20230-2>

Dated: January 22, 2007.
Andrew McGilvray,
Executive Secretary.

[FR Doc. E7-2136 Filed 2-8-07; 8:45 am]

BILLING CODE 3510-DS-S